DEPARTMENT OF COMMERCE

Foreign-Trade Zones Board

[Order No. 2102]

Approval for Production Authority, Foreign-Trade Zone 134, Wacker Polysilicon North America, LLC (Polysilicon), Charleston, Tennessee

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Chattanooga Chamber Foundation, grantee of FTZ 134, has requested production authority on behalf of Wacker Polysilicon North America, LLC (Wacker), within Subzone 134B in Charleston, Tennessee (B-31-2019, docketed May 2, 2019);

Whereas, notice inviting public comment has been given in the Federal Register (84 FR 20091, May 8, 2019) and the application has been processed pursuant to the FTZ Act and the Board's regulations; and,

Whereas, the Board adopts the findings and recommendations of the examiners' report, and finds that the requirements of the FTZ Act and the Board's regulations would be satisfied, and that the proposal would be in the public interest if subject to the restriction listed below;

Now, therefore, the Board hereby orders:

The application for production authority under zone procedures within Subzone 134B on behalf of Wacker Polysilicon North America, LLC, as described in the application and Federal Register notice, is approved, subject to the FTZ Act and the Board's regulations, including Section 400.13, and further subject to a restriction prohibiting the admission of foreign-status silicon metal subject to an antidumping or countervailing duty order.

Dated: August 21, 2020.
Jeffrey I. Kessler,
Assistant Secretary for Enforcement and Compliance, Alternate Chairman, Foreign-Trade Zones Board.

[FR Doc. 2020-19003 Filed 8-27-20; 8:45 am]

BILLING CODE 3510-DS-P